DEPARTMENT OF COMMERCE

Foreign-Trade Zones Board

[S-137-2024]

Foreign-Trade Zone 154; Application for Subzone; Willow Glen Terminal LLC; Saint Gabriel, Louisiana

An application has been submitted to the Foreign-Trade Zones (FTZ) Board by the Port of Greater Baton Rouge, grantee of FTZ 154, requesting subzone status for the facility of Willow Glen Terminal LLC, located in Saint Gabriel, Louisiana. The application was submitted pursuant to the provisions of the Foreign-Trade Zones Act, as amended (19 U.S.C. 81a-81u), and the regulations of the FTZ Board (15 CFR part 400). It was formally docketed on August 1, 2024.

The proposed subzone (50 acres) is located at 2605 Highway 75, Saint Gabriel, Louisiana. No authorization for production activity has been requested at this time. The proposed subzone would be subject to the existing activation limit of FTZ 154.

In accordance with the FTZ Board's regulations, Kolade Osho of the FTZ Staff is designated examiner to review the application and make recommendations to the Executive Secretary.

Public comment is invited from interested parties. Submissions shall be addressed to the FTZ Board's Executive Secretary and sent to: ftz@trade.gov. The closing period for their receipt is September 16, 2024. Rebuttal comments in response to material submitted during the foregoing period may be submitted during the subsequent 15-day period to September 30, 2024.

A copy of the application will be available for public inspection in the “Online FTZ Information Section” section of the FTZ Board's website, which is accessible via www.trade.gov/ftz.

For further information, contact Kolade Osho at Kolade.Osho@trade.gov.

Dated: August 1, 2024.
Elizabeth Whiteman,
Executive Secretary.

[FR Doc. 2024-17349 Filed 8-5-24; 8:45 am]

BILLING CODE 3510-DS-P